DEPARTMENT OF HEALTH AND HUMAN SERVICES

Administration for Children and Families

Proposed Information Collection Activity; Comment Request

Proposed Projects:

Title: National Youth in Transition Database (NYTD) and Youth Outcomes Survey.

OMB No.: 0970-0340.

Description: The John H. Chafee Foster Care Program for Successful Transition to Adulthood (42 U.S.C. 677, as amended by Pub. L. 115-123, the Family First Prevention Services Act within Division E, Title VII of the Bipartisan Budget Act of 2018) requires State child welfare agencies to collect and report to the Administration for Children and Families (ACF) data on the characteristics of youth receiving independent living services and information regarding their outcomes. The regulation implementing the National Youth in Transition Database (NYTD), listed in 45 CFR 1356.80, contains standard data collection and reporting requirements for States to meet the law's requirements. ACF uses the information collected under the regulation to track independent living services, assess the collective outcomes of youth, and assess performance with regard to those outcomes, consistent with the law's mandate.

Respondents: State agencies (including agencies of the District of Columbia, Puerto Rico and the U.S. Virgin Islands) that administer the John H. Chafee Foster Care Program for Successful Transition to Adulthood.

Annual Burden Estimates
Instrument | Number of respondents | Number of responses per respondent | Average burden hours per response | Total burden hours
Youth Outcome Survey | 21,064 | 1 | 0.50 | 10,529
Data File | 53 | 2 | 1,849 | 195,994

Estimated Total Annual Burden Hours: 206,253.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2018-15989 Filed 7-25-18; 8:45 am]

BILLING CODE 4184-01-P